DEPARTMENT OF TRANSPORTATION

Federal Aviation Administration

14 CFR Part 71

[Docket No. FAA-2025-0372 Airspace Docket No. 24-AAL-126]

RIN 2120-AA66

Amendment of Colored Federal Airway Green 8, Jet Route J-115, United States Area Navigation (RNAV) Route T-227 and Establishment of RNAV Route Q-188 in Alaska.

AGENCY: Federal Aviation Administration (FAA), DOT.

ACTION: Final rule.

SUMMARY: This action amends Colored Federal Airway Green 8 (G-8), Jet Route J-115, and United States Area Navigation (RNAV) Route T-227 and establishes RNAV Route Q-188 in Alaska. The FAA is taking this action due to the pending decommissioning of the Shemya, AK, Nondirectional Radio Beacon (NDB).

DATES: Effective date 0901 UTC, January 22, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Policy Directorate, Federal Aviation Administration, 600 Independence Avenue SW, Washington DC 20597; telephone: (202) 267-8783.

FOR FURTHER INFORMATION CONTACT: Steven Roff, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a notice of proposed rulemaking for Docket No. FAA-2025-0372 in the Federal Register (90 FR 11140; March 4, 2025), to amend Colored Federal Airway Green 8 (G-8), Jet Route J-115, and United States Area Navigation (RNAV) Route T-227 and establish RNAV Route Q-188 in Alaska. Interested parties were invited to participate in this rulemaking effort by submitting written comments on the proposal to the FAA. One comment in support of this action was received.

Incorporation by Reference

Colored Federal Airways are published in paragraph 6009, Jet Routes are published in paragraph 2004, and United States Area Navigation Routes are published in paragraph 6011 and paragraph 2006 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K which lists Class A, B, C, D, and E airspace areas, air traffic service routes, and reporting points, is publicly available as listed in the ADDRESSES section of this document.

The Rule

This action amends 14 CFR part 71 by modifying Colored Federal Airway Green 8 (G-8), Jet Route J-115, and RNAV Route T-227, and establishing RNAV Route Q-188 in Alaska. The FAA is proposing this action due to the pending decommissioning of the Shemya, AK, NDB.

G-8: Prior to this final rule, G-8 extended between the Shemya, AK, NDB and the Kachemak, AK, NDB. This action revokes the segment of G-8 that extends between the Shemya NDB and the Mount Moffet, AK, NDB. As amended, G-8 would extend between the Mount Moffet NDB and the Kachemak NDB.

J-115: Prior to this final rule, J-115 extended between the Shemya, AK, NDB and the Deadhorse, AK, VOR/DME. The action revokes the segment of J-115 that extends between the Shemya NDB and the Mount Moffet, AK, NDB. As amended, J-115 extends between the Mount Moffet, AK, NDB and the Deadhorse VOR/DME.

T-227: Prior to this final rule, T-227 extended between the Shemya, AK, VOR/Tactical Air Navigation (VORTAC) and the Deadhorse, AK, VOR/DME. This action amends RNAV Route T-227 by adding the DEJJE, AK, WP to the route. As amended, T-227 extends between the Shemya VORTAC and the Deadhorse VOR/DME.

Q-188: This action establishes RNAV Route Q-188. As established, Q-188 extends between the Shemya, AK, VORTAC and the Mount Moffet, AK, NDB.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amendment of Colored Federal Airway Green 8, Jet Route J-115, RNAV Route T-227 and establishment of RNAV Route Q-188 qualifies for categorical exclusion under the National Environmental Policy Act (42 U.S.C. 4321, et seq.) and in accordance with FAA Order 1050.1G, FAA National Environmental Policy Act Implementing Procedures, paragraph B-2.5(a) which categorically excludes from further environmental impact review rulemaking actions that designate or modify classes of airspace areas, airways, routes, and reporting points (see 14 CFR part 71, Designation of Class A, B, C, D, and E Airspace Areas; Air Traffic Service Routes; and Reporting Points); and paragraph B-2.5(k), which categorically excludes from further environmental impact review the publication of existing air traffic control procedures that do not essentially change existing tracks, create new tracks, change altitude, or change concentration of aircraft on these tracks. As such, this action is not expected to result in any potentially significant environmental impacts. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 6009(a) Green Federal Airways.

* * * * *

G-8 [Amended]

From Mount Moffet, AK, NDB, 20 AGL; Dutch Harbor, AK, NDB, 20 AGL; INT Dutch Harbor, AK, NDB 041° and Elfee, AK, NDB 253° bearings, 20 AGL; Elfee, AK, NDB, 20 AGL; Chinook, AK, NDB; INT Chinook, AK, NDB 054° and Kachemak, AK, NDB 269° bearings; to Kachemak, AK, NDB.

* * * * *

Paragraph 2004 Jet Routes.

* * * * *

J-115 [Amended]

From Mount Moffett, AK, NDB; Dutch Harbor, AK, NDB; Cold Bay, AK; King Salmon, AK; INT King Salmon 053° and Kenai, AK, 239° radials; Kenai, AK; Anchorage, AK; Big Lake, AK; Fairbanks, AK; Chandalar, AK, NDB; to Deadhorse, AK.

* * * * *

Paragraph 6011 United States Area Navigation Routes.

* * * * *

T-227 Shemya, AK (SYA) to Deadhorse, AK (SCC) [Amended]
Shemya, AK (SYA) | VORTAC | (Lat. 52°43′05.78″ N, long. 174°03′43.50″ E)
JANNT, AK | WP | (Lat. 52°04′17.88″ N, long. 178°15′37.23″ W)
DEJJE, AK | WP | (Lat. 51°56′50.41″ N, long. 177°15′11.72″ W)
BAERE, AK | WP | (Lat. 52°12′11.96″ N, long. 176°08′08.53″ W)
ALEUT, AK | WP | (Lat. 54°14′16.58″ N, long. 166°32′51.82″ W)
MORDI, AK | FIX | (Lat. 54°52′49.87″ N, long. 165°03′15.24″ W)
GENFU, AK | FIX | (Lat. 55°23′18.64″ N, long. 163°06′20.78″ W)
BINAL, AK | FIX | (Lat. 55°45′59.99″ N, long. 161°59′56.43″ W)
WIXER, AK | WP | (Lat. 56°54′29.00″ N, long. 158°36′10.00″ W)
CULTI, AK | WP | (Lat. 58°15′11.91″ N, long. 156°31′19.57″ W)
FEDGI, AK | WP | (Lat. 59°30′10.87″ N, long. 154°14′14.80″ W)
WEZZL, AK | WP | (Lat. 59°53′13.86″ N, long. 152°24′12.63″ W)
AMOTT, AK | FIX | (Lat. 60°52′26.59″ N, long. 151°22′23.60″ W)
Big Lake, AK (BGQ) | VORTAC | (Lat. 61°34′09.96″ N, long. 149°58′01.77″ W)
GLOWS, AK | FIX | (Lat. 64°26′15.88″ N, long. 148°15′17.88″ W)
PERZO, AK | WP | (Lat. 64°40′22.99″ N, long. 148°07′20.15″ W)
Fairbanks, AK (FAI) | VORTAC | (Lat. 64°48′00.25″ N, long. 148°00′43.11″ W)
Deadhorse, AK (SCC) | VOR/DME | (Lat. 70°11′57.11″ N, long. 148°24′58.17″ W)

* * * * *

Paragraph 2006 United States Area Navigation Routes.

* * * * *

Q-188 Shemya, AK (SYA) to Mount Moffett, AK (ADK) [New]
Shemya, AK (SYA) | VORTAC | (Lat. 52°43′05.78″ N, long. 174°03′43.50″ E)
Mount Moffett, AK (ADK) | NDB | (Lat. 51°52′18.76″ N, long. 176°40′33.56″ W)

* * * * *

Issued in Washington, DC, on November 14, 2025.
Alex W. Nelson,
Acting Manager, Rules and Regulations Group.

[FR Doc. 2025-20134 Filed 11-17-25; 8:45 am]

BILLING CODE 4910-13-P